DEPARTMENT OF AGRICULTURE

Animal and Plant Health Inspection Service

[Docket No. 01-056-1]

Notice of Request for Extension of a Currently Approved Information Collection

AGENCY: Animal and Plant Health Inspection Service, USDA.

ACTION: Extension of approval of an information collection; comment request.

SUMMARY: In accordance with the Paperwork Reduction Act of 1995, this notice announces the Animal and Plant Health Inspection Service's intention to request an extension of a currently approved information collection in support of regulations to prevent the introduction of exotic Newcastle disease in birds and poultry and chlamydiosis in poultry.

DATES: We invite you to comment on this docket. We will consider all comments that we receive by September 10, 2001.

ADDRESSES: Please send your comment and three copies to: Docket No. 01-056-1, Regulatory Analysis and Development, PPD, APHIS,Suite 3C03, 4700 River Road Unit 118, Riverdale, MD 20737-1238. Please state that your comment refers to Docket No. 01-056-1.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: For information regarding exotic Newcastle disease in birds and poultry and chlamydiosis in poultry, contact Dr. Joseph Annelli, Chief Staff Veterinarian, Emergency Programs, VS, APHIS, 4700 River Road Unit 41, Riverdale, MD 20737-1231; (301) 734-8073. For copies of more detailed information on the information collection, contact Mrs. Celeste Sickles, APHIS’ Information Collection Coordinator, at (301) 734-7477.

SUPPLEMENTARY INFORMATION: Title: Exotic Newcastle Disease in Birds and Poultry; Chlamydiosis in Poultry.

OMB Number: 0579-0116.

Type of Request: Extension of a currently approved information collection.

Abstract: The Animal and Plant Health Inspection Service (APHIS) of the U.S. Department of Agriculture is responsible for preventing the spread of contagious, infectious, or communicable diseases of animals and poultry from one State to another, and for eradicating such diseases from the United States when feasible.

In connection with this mission, APHIS regulates the interstate movement of certain poultry, birds, and other items from premises and areas quarantined because of exotic Newcastle disease and chlamydiosis. Restricting movement in this manner enables us to prevent infected or exposed poultry or birds or contaminated articles from spreading disease.

Regulating the interstate movement of poultry, birds, and other items (such as eggs, carcasses, vehicles, containers, and coops) requires the use of certain information gathering activities, including the completion of permit applications attesting to the health status of the birds or poultry being moved, the number and types of birds or poultry being moved in a particular shipment, the shipment's point of origin, the shipment's destination, and the reason for the interstate movement.

These documents also provide useful “traceback” information in the event infected birds or poultry are discovered and an investigation must be launched to determine where the birds or poultry originated.

The information provided by these documents is critical to our ability to prevent the interstate spread of exotic Newcastle disease and chlamydiosis, which are highly contagious and capable of causing significant economic harm to the U.S. poultry industry.

We are asking the Office of Management and Budget (OMB) to approve our continued use of this information collection activity for an additional 3 years.

The purpose of this notice is to solicit comments from the public (as well as affected agencies) concerning this information collection activity. These comments will help us:

(1) Evaluate whether the information collection is necessary for the proper performance of our agency's functions, including whether the information will have practical utility;

(2) Evaluate the accuracy of our estimate of the burden of the information collection, including the validity of the methodology and assumptions used;

(3) Enhance the quality, utility, and clarity of the information to be collected; and

(4) Minimize the burden of the collection of information on those who are to respond, through use, as appropriate, of automated, electronic, mechanical, and other collection technologies, e.g., permitting electronic submission of responses.

Estimate of burden: The public reporting burden for this collection of information is estimated to average .5965 hours per response.

Respondents: U.S. producers/shippers and State animal health protection authorities.

Estimated annual number of respondents: 57.

Estimated annual number of responses per respondent: 1.

Estimated annual number of responses: 57.

Estimated total annual burden on respondents: 34 hours. (Due to averaging, the total annual burden hours may not equal the product of the annual number of responses multiplied by the reporting burden per response.)

All responses to this notice will be summarized and included in the request for OMB approval. All comments will also become a matter of public record.

Done in Washington, DC, this 6th day of July 2001.
Bobby R. Acord,
Acting Administrator, Animal and Plant Health Inspection Service.

[FR Doc. 01-17443 Filed 7-11-01; 8:45 am]

BILLING CODE 3410-34-U